EXPORT-IMPORT BANK OF THE UNITED STATES

Economic Impact Policy

This notice is to inform the public that the Export-Import Bank has received an application to finance the export of $14.9 million of equipment and other goods and services to a buyer in Portugal. The U.S. exports will enable the Portuguese company to produce photovoltaic solar modules. The Portuguese company will have a production capacity of 5 megawatts per year, with initial production to commence in 2006. It is envisioned that most of this new production will be consumed in Portugal, Spain, Germany and Italy, with smaller amounts anticipated to be sold in other European countries, Africa and Latin America. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 05-21353 Filed 10-25-05; 8:45 am]

BILLING CODE 6690-01-P